DEPARTMENT OF TRANSPORTATION

Federal Motor Carrier Safety Administration

[Docket No. FMCSA-2010-0355; FMCSA-2010-0386; FMCSA-2012-0347; FMCSA-2012-0348; FMCSA-2014-0310; FMCSA-2014-0311]

Qualification of Drivers; Exemption Applications; Diabetes

AGENCY: Federal Motor Carrier Safety Administration (FMCSA), DOT.

ACTION: Notice of renewal of exemptions; request for comments.

SUMMARY: FMCSA announces its decision to renew the exemptions of 130 individuals from its rule prohibiting persons with insulin-treated diabetes mellitus (ITDM) from operating commercial motor vehicles (CMVs) in interstate commerce. FMCSA has statutory authority to exempt individuals from this rule if the exemptions granted will not compromise safety. The Agency has concluded that granting these exemption renewals will provide a level of safety that is equivalent to or greater than the level of safety maintained without the exemptions for these CMV drivers.

DATES: Each group of renewed exemptions are effective from the dates stated in the discussions below. Comments must be received on or before January 30, 2017.

ADDRESSES: You may submit comments bearing the Federal Docket Management System (FDMS) numbers: Docket No. FMCSA-2010-0355; FMCSA-2010-0386; FMCSA-2012-0347; FMCSA-2012-0348; FMCSA-2014-0310; FMCSA-2014-0311 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m., e.t., Monday through Friday, except Federal Holidays.

• Fax: 1-202-493-2251.

Instructions: Each submission must include the Agency name and the docket number for this notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue SE., Washington, DC, between 9 a.m. and 5 p.m., e.t., Monday through Friday, except Federal holidays. The Federal Docket Management System (FDMS) is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Ms. Christine A. Hydock, Chief, Medical Programs Division, 202-366-4001, fmcsamedical@dot.gov, FMCSA, Department of Transportation, 1200 New Jersey Avenue SE., Room W64-113, Washington, DC 20590-0001. Office hours are from 8 a.m. to 5:30 p.m. e.t., Monday through Friday, except Federal holidays.

SUPPLEMENTARY INFORMATION:

Background

Under 49 U.S.C. 31136(e) and 31315, FMCSA may renew an exemption from the Federal Motor Carrier Safety Regulations 2-year period if it finds “such exemption would likely achieve a level of safety that is equivalent to or greater than the level that would be achieved absent such exemption.” The statute also allows the Agency to renew exemptions at the end of the 2-year period. The 130 individuals listed in this notice have recently become eligible for a renewed exemption from the diabetes prohibition in 49 CFR 391.41(b)(3), which applies to drivers of CMVs in interstate commerce. The drivers remain in good standing with the Agency, have maintained their required medical monitoring and have not exhibited any medical issues that would compromise their ability to safely operate a CMV during the previous 2-year exemption period.

Exemption Decision

This notice addresses 130 individuals who have requested renewal of their exemptions in accordance with FMCSA procedures. These 130 drivers remain in good standing with the Agency, have maintained their required medical monitoring and have not exhibited any medical issues that would compromise their ability to safely operate a CMV during the previous 2-year exemption period. Therefore, FMCSA has decided to extend each exemption for a renewable two-year period. Each individual is identified according to the renewal date.

The exemptions are renewed subject to the following conditions: (1) That each individual submit a quarterly monitoring checklist completed by the treating endocrinologist as well as an annual checklist with a comprehensive medical evaluation; (2) that each individual reports within 2 business days of occurrence, all episodes of severe hypoglycemia, significant complications, or inability to manage diabetes; also, any involvement in an accident or any other adverse event in a CMV or personal vehicle, whether or not it is related to an episode of hypoglycemia; (3) that each individual submit an annual ophthalmologist's or optometrist's report; and (4) that each individual provide a copy of the annual medical certification to the employer for retention in the driver's qualification file, or keep a copy in his/her driver's qualification file if he/she is self-employed. The driver must also have a copy of the certification when driving, for presentation to a duly authorized Federal, State, or local enforcement official.

Basis for Renewing Exemptions

Under 49 U.S.C. 31315(b)(1), an exemption may be granted for no longer than two years from its approval date and may be renewed upon application for additional two year periods. The following groups of drivers received renewed exemptions in the month of January and are discussed below.

As of January 9, 2017, and in accordance with 49 U.S.C. 31136(e) and 31315, the following 7 individuals have satisfied the renewal conditions for obtaining an exemption from the rule prohibiting drivers with ITDM from driving CMVs in interstate commerce (77 FR 65931; 78 FR 1926):

Thomas L. Graber (PA)

Jeremiah S. Johnson (ND)

Henry P. Musgrove, Jr. (WA)

Henry W. Rutschow (OH)

Michael L. Sabin (IL),

Patrick E. Snyder (NY)

Odell Williams (NC)

The drivers were included in Docket No. FMCSA-2012-0347. Their exemptions are effective as of January 9, 2017 and will expire on January 9, 2019.

As of January 10, 2017, and in accordance with 49 U.S.C. 31136(e) and 31315, the following 9 individuals have satisfied the renewal conditions for obtaining an exemption from the rule prohibiting drivers with ITDM from driving CMVs in interstate commerce (75 FR 69734; 76 FR 1495):

Jerry A. Barber (NY)

Julie A. Brandvold (ND)

Terry D. Cunningham (OH)

Dean A. Dalessandro (MA)

Albert H. Feldt (MO)

Christopher J. Grause (SD)

Shannon A. Griffin (MO)

Mathew M. Rollins (SC)

James H. Smith (DC)

The drivers were included in Docket No. FMCSA-2010-0355. Their exemptions are effective as of January 10, 2017 and will expire on January 10, 2019.

As of January 15, 2017, and in accordance with 49 U.S.C. 31136(e) and 31315, the following 40 individuals have satisfied the renewal conditions for obtaining an exemption from the rule prohibiting drivers with ITDM from driving CMVs in interstate commerce (79 FR 74159; 80 FR 8926):

Eric D. Ambler (WI)

Clay B. Anderson (IL)

Gregory C. Bartley (PA)

Aaron M. Batts (NC)

Nathan R. Batzel (MN)

Michael R. Bell (MD)

Jerry A. Cox, Sr. (LA)

Lloyd F. Cuckow (CO)

Kenneth B. Dennard (GA)

Eric Q. Dickerson (IN)

James P. Dreifuerst (WI)

Domenic R. Folino (PA)

Howard M. Hammel (NJ)

Derrick D. Harris (IL)

Kevin R. Johnson (MI)

David J. Long (PA)

David P. Magee (MO)

Gary F. Marson (WI)

James A. Meridith (MI)

Richard A. Moore (PA)

Keith B. Muehler (ND)

John K. Murray (NY)

John D. Pede, Jr. (PA)

John F. Prophet (FL)

Dominic F. Quartullo (WI)

Michael E. Reed (IA)

Carlos B. Rodriguez (NY)

David J. Sierra (NJ)

Roger E. Smith (IA)

Terrell W. Smith (PA)

Anthony L. Spratto (WI)

Timothy R. Stephens (KS)

Howard C. Stines (TN)

Christopher E. Swanson (CA)

Diana C. Tabala (NY)

Brewster E. Thurston (VT)

Phillip J. Ulmer (LA)

Charles A. Walker (IL)

John D. Weaver (WY)

Leroy D. Yost (IA)

The drivers were included in Docket No. FMCSA-2014-0310. Their exemptions are effective as of January 15, 2017 and will expire on January 15, 2019.

As of January 25, 2017, and in accordance with 49 U.S.C. 31136(e) and 31315, the following 16 individuals have satisfied the renewal conditions for obtaining an exemption from the rule prohibiting drivers with ITDM from driving CMVs in interstate commerce (77 FR 70530; 78 FR 5559):

Randle A. Badertscher (WY)

Jerol G. Fox (DE)

Michael S. Freeman (OR)

Harold D. Grimes (MI)

Douglas W. Hunderman (MI)

Robert L. Johnson, Jr. (VA)

George R. Miller III (PA)

Ronald G. Monroe (IN)

Israel Ramos (NY)

Jed Ramsey (ID)

Raymond E. Richardson (MD)

Craig W. Schafer (DE)

Stephen L. Schug (FL)

Shawn M. Seeley (CT)

Mark S. Shepherd (MA)

L. Everett Stamper (IN)

The drivers were included in Docket No. FMCSA-2012-0348. Their exemptions are effective as of January 25, 2017 and will expire on January 25, 2019.

As of January 28, 2017, and in accordance with 49 U.S.C. 31136(e) and 31315, the following 9 individuals have satisfied the renewal conditions for obtaining an exemption from the rule prohibiting drivers with ITDM from driving CMVs in interstate commerce (75 FR 77947; 76 FR 5243):

James T. Bezold (KY)

Allen C. Cornelius, Jr. (DE)

Eugene M. Johnson (NY)

Michael A. McHenry (IN)

Gregory S. Myers (PA)

Richard D. Peterson, Jr. (MN)

Rudolph Q. Redd (IL)

Chad A. Sanders (IN)

Mark A. Sawyer (IN)

The drivers were included in Docket No. FMCSA-2012-0386. Their exemptions are effective as of January 28, 2017 and will expire on January 28, 2019.

As of January 31, 2017, and in accordance with 49 U.S.C. 31136(e) and 31315, the following 49 individuals have satisfied the renewal conditions for obtaining an exemption from the rule prohibiting drivers with ITDM from driving CMVs in interstate commerce (79 FR 78938; 80 FR 12545):

Joseph L. Allen (TX)

Wayne A. Aukes (MN)

Freddie W. Bermudez, Jr. (IL)

Darrell K. Blanton (NC)

Richard A. Boor (VA)

Stephen R. Brown (NH)

Kenneth E. Chastain (TN)

Jeffery C. Colbert (AR)

Kenny L. Dickerson (GA)

James M. DiClaudio (NJ)

Steven A. Dion (NY)

Dean R. Duquette (ME)

Joseph J. Eckstrom (NY)

Morgan D. Hale, Jr. (KY)

James J. Hartman (SD)

Dale H. Hintz (WI)

Benjamin D. Horton (VA)

Danny R. Jackson, Jr. (OR)

Brian C. Jagdman (MD)

Terry J. Johnson (MD)

Robert L. Johnson, Jr. (OK)

Michael W. Jones (NJ)

Carl J. Kern, Jr. (PA)

Monte J. Lakosky (MI)

Aaron J. Larson (WI)

Jeffrey G. Lawrence (AR)

Leo D. Maggioli (MA)

Ryan M. McClatchey (TN)

Carl A. Mears, Jr. (VT)

Robert P. Miller (WI)

Nicholas M. Palocy (VT)

John D. Patterson (OH)

Michael W. Perez (OH)

Jerry Platero (NM)

Darrell K. Rau (IA)

Andrew B. Renninger (PA)

Ryan T. Rock (ID)

Wilfredo Rodriguez (NY)

Mark A. Santana (PA)

Donald E. Scovil (NH)

David E. Shinen (CA)

Patrick A. Shryock (AR)

Joshua C. Thompson (AZ)

Jeffrey D. Thomson (WI)

Marshall L. Wainwright (IL)

Glenn P. Whitehouse (PA)

Jennifer R. Williams (PA)

John E. Yates (IN)

Jeffrey S. Zimmer (NH)

The drivers were included in Docket No. FMCSA-2014-0311. Their exemptions are effective as of January 31, 2017 and will expire on January 31, 2019.

Each of the 130 drivers in the aforementioned groups qualifies for a renewal of the exemption. They have maintained their required medical monitoring and have not exhibited any medical issues that would compromise their ability to safely operate a CMV during the previous 2-year exemption period.

These factors provide an adequate basis for predicting each driver's ability to continue to drive safely in interstate commerce. Therefore, FMCSA concludes that extending the exemption for each of the 130 drivers for a period of two years is likely to achieve a level of safety equal to that existing without the exemption. The drivers were included in docket numbers FMCSA-2010-0355; FMCSA-2010-0386; FMCSA-2012-0347; FMCSA-2012-0348; FMCSA-2014-0310; FMCSA-2014-0311.

Request for Comments

FMCSA will review comments received at any time concerning a particular driver's safety record and determine if the continuation of the exemption is consistent with the requirements at 49 U.S.C. 31136(e) and 31315. However, FMCSA requests that interested parties with specific data concerning the safety records of these drivers submit comments by January 30, 2017.

FMCSA believes that the requirements for a renewal of an exemption under 49 U.S.C. 31136(e) and 31315 can be satisfied by initially granting the renewal and then requesting and evaluating, if needed, subsequent comments submitted by interested parties. As indicated above, the Agency previously published notices of final disposition announcing its decision to exempt these 130 individuals from rule prohibiting persons with ITDM from operating CMVs in interstate commerce in 49 CFR 391.41(b)(3). The final decision to grant an exemption to each of these individuals was made on the merits of each case and made only after careful consideration of the comments received to its notices of applications. The notices of applications stated in detail the medical condition of each applicant for an exemption from rule prohibiting persons with ITDM from operating CMVs in interstate commerce. That information is available by consulting the above cited Federal Register publications.

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315, FMCSA will take immediate steps to revoke the exemption of a driver.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket numbers FMCSA-2010-0355; FMCSA-2010-0386; FMCSA-2012-0347; FMCSA-2012-0348; FMCSA-2014-0310; FMCSA-2014-0311 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period. FMCSA may issue a final determination at any time after the close of the comment period.

Viewing Comments and Documents

To view comments, as well as any documents mentioned in this preamble, go to http://www.regulations.gov and in the search box insert the docket number FMCSA-2010-0355; FMCSA-2010-0386; FMCSA-2012-0347; FMCSA-2012-0348; FMCSA-2014-0310; FMCSA-2014-0311 and click “Search.” Next, click “Open Docket Folder” and you will find all documents and comments related to this notice.

Issued on: December 15, 2016.
Larry W. Minor,
Associate Administrator for Policy.

[FR Doc. 2016-31552 Filed 12-28-16; 8:45 am]

BILLING CODE 4910-EX-P